DEPARTMENT OF ENERGY

Federal Energy Regulatory Commission

[Docket No. CP01-93-000]

Texas Gas Transmission Corporation and Forest Oil Corporation; Notice of Application

March 2, 2001.

On February 23, 2001, pursuant to section 7 of the Natural Gas Act (NGA) and Part 157 of the Regulations of the Federal Energy Regulatory Commission (Commission), Texas Gas Transmission Corporation (Texas Gas) and Forest Oil Corporation (Forest Oil) filed in Docket No. CP01-093-000 and abbreviated application for: (1) Authorization for Texas Gas to abandon by sale to Forest Oil certain supply lateral facilities located in the South Marsh Island area, offshore Louisiana and (2) a declaratory order, that upon approval of the abandonment by sale, Forest Oil's ownership and operation of the subject supply lateral facilities will be exempt from the Commission jurisdiction under the NGA, all as more fully set forth in the application which is on file with the Commission and open to public inspection. The filing may be viewed at http://www.ferc.fed.us/online/rims.htm (call 202-208-2222 for assistance).

The application states that Texas Gas has entered into an agreement with Forest Oil (successor to Force Energy, Inc.) whereby Texas Gas will, upon Commission approval, transfer by sale to Forest Oil certain supply lateral facilities consisting of approximately 2.12 miles of 8-inch diameter pipeline, 1.85 miles of 6-inch diameter pipeline and appurtenances located in blocks 10 and 11 of the South Marsh Island Area, offshore Louisiana.

Texas Gas states that the subject facilities, which are not contiguous to its mainline system, were originally constructed and operated to support its merchant function by connecting supplies in the South Marsh Island Area to the ANR Pipeline Company's pipeline system for ultimate delivery to Texas Gas' mainline system. Due to the elimination of Texas Gas' merchant function and termination of third party transportation agreements, for delivery of the subject gas supplies to Texas Gas' mainline system, Texas Gas no longer has a firm transportation commitment involving the utilization of these facilities. As such, these facilities are no longer integral to Texas Gas' role as an open-access transporter, and abandonment of these facilities will enable Texas Gas to streamline its transmission operations.

Texas Gas states that abandonment, by sale, of these supply lateral facilities will not adversely affect any of Texas Gas' customers, since for the past several years, records show that these supply facilities have not been utilized.

Questions regarding the details of this proposal and communications concerning this application should be directed to: David N. Roberts, Manager of Certificates and Tariffs, Texas Gas Transmission Corporation, PO Box 20008, Owensboro, Kentucky, 42304; call (270) 688-6712.

There are two ways to become involved in the Commission's review of this project. First, any person wishing to obtain legal status by becoming a party to the proceedings for this project should, on or before March 23, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-5643 Filed 3-7-01; 8:45 am]

BILLING CODE 6717-01-M